DEPARTMENT OF ENERGY

Federal Energy Regulatory Commission

[Docket No. RP97-431-000]

Natural Gas Pipeline Company of America; Notice of Conference

February 11, 2000.

Take notice that the conference in the above-captioned proceeding has been scheduled for Tuesday February 22, 2000, beginning at 10:00 am., in a room to be designated at the offices of the Federal Energy Regulatory Commission, 888 First Street, NE, Washington, DC 20426.

All interested parties are permitted to attend.

Linwood A. Watson, Jr.,
Acting Secretary.

[FR Doc. 00-3769 Filed 2-16-00; 8:45 am]

BILLING CODE 6717-01-M